DEPARTMENT OF TRANSPORTATION

Federal Highway Administration

Notice of Final Federal Agency Actions on Proposed Highway in California

AGENCY: Federal Highway Administration (FHWA), DOT

ACTION: Notice of Limitation on Claims for Judicial Review of Actions by the California Department of Transportation (Caltrans), National Marine Fisheries Service (NMFS), and United States Fish and Wildlife Service (USFWS), pursuant to 23 U.S.C. 327.

SUMMARY: The FHWA, on behalf of Caltrans, is issuing this notice to announce actions taken by Caltrans, NMFS, and USFWS that are final within the meaning of 23 U.S.C. 139(l)(1). The actions relate to a proposed Local Agency (off-highway) project funded under the Highway Bridge Program (HBP), that proposes a bridge replacement located along Davis Road between Blanco Road to Reservation Road, in the County of Monterey, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 6, 2017. If the Federal law that authorizes judicial review of a claim provides a time period of less than 150 days for filing such claim, then that shorter time period still applies.

FOR FURTHER INFORMATION CONTACT: For Caltrans: Randell LaVack; Environmental Branch Chief; Caltrans District #5; 50 Higuera Street; San Luis Obispo, CA 93401; 8 a.m.-5 p.m.; (805) 549- 3182; Randy.lavack@dot.ca.gov.

For NMFS: William W. Steele, Jr.; Regional Administrator; National Oceanic and Atmospheric Administration-West Coast Region; 777 Sonoma Avenue, Room 325; Santa Rosa, CA 95404; 8 a.m.-5 p.m.; (707) 575-6066; Will.Steele@noaa.gov.

For USFWS: Mark Ogonowski; Biologist; Ventura Fish and Wildlife Service Office; 2493 Portola Road, Suite B, Ventura CA, 93003; 8 a.m.-5 p.m.; (805) 644-1766; mark_ogonowski@fws.gov.

SUPPLEMENTARY INFORMATION: Effective July 1, 2007, the FHWA assigned, and the Caltrans assumed, environmental responsibilities for this project pursuant to 23 U.S.C. 327. Notice is hereby given that the Caltrans, NMFS and USFWS have taken final agency actions subject to 23 U.S.C. 139(l)(1) by issuing licenses, permits, and approvals for the following highway project in the State of California: The Project proposes replacing the existing two-lane, low-level Davis Road Bridge (#44C-0068) over the Salinas River with a longer bridge that meets current standards. The existing bridge is located approximately 2 miles south of the City of Salinas in Monterey County. In addition, the project will widen Davis Road from two lanes to four lanes for a distance of approximately 2.1 miles. Federal Project Number BRLS-5944 (068).

The actions by the Federal agencies, and the laws under which such actions were taken, are described in the Final Environmental Assessment (EA) for the project, approved on August 1, 2016, in the Caltrans' Finding of No Significant Impact (FONSI) issued on June 22, 2016, and in other documents in the FHWA project records. The EA, FONSI, and other project records are available by contacting Caltrans at the address provided above. The Caltrans EA and FONSI can be viewed and downloaded from the project Web site at https://www.co.monterey.ca.us/government/departments-i-z/resource-management-agency-rma-/public-works/project-announcements-notices or viewed at public libraries in the project area.

The NMFS concurs that the proposed action is not likely to adversely affect Steelhead or critical habitat; permit # WCR-2016-4333 is available by contacting NMFS at the address provided above.

The USFWS, concurred that the proposed Project may affect, but is not likely to adversely affect, the California tiger salamander and concurred the use of the Caltrans Programmatic Biological Opinion for California Red-Legged Frog; permit #08EVEN00-2016-F-0255 is available by contacting USFWS at the address provided above. This notice applies to all Federal agency decisions as of the issuance date of this notice and all laws under which such actions were taken, including but not limited to:

1. General: National Environmental Policy Act (NEPA) [42 U.S.C. 4321-4335].

2. Air: Clean Air Act [23 U.S.C. 109 (j) and 42 U.S.C. 7521(a)].

3. Historic and Cultural Resources: National Historic Preservation Act of 1966, as amended (NHPA), [16 U.S.C. 470(f) et seq.]; Archeological Resources Protection Act of 1977 [16 U.S.C. 470(aa)-470(11)]; Archeological and Historic Preservation Act [16 U.S.C. 469-469(c)]; Native American Grave Protection and Repatriation Act (NAGPRA) [25 U.S.C. 3001-3013].

4. Wildlife: Federal Endangered Species Act [16 U.S.C. 1531-1543]; Fish and Wildlife Coordination Act [16 U.S.C. 661-666(C); Migratory Bird Treaty Act [16 U.S.C. 760c-760g].

5. Social and Economic: NEPA implementation [23 U.S.C. 109(h)]; Civil Rights Act of 1964 [42 U.S.C. 2000(d)-2000(d)(1)].

6. Wetlands and Water Resources: Clean Water Act [33 U.S.C. 1344].

7. Executive Orders: E.O. 11990 Protection of Wetlands; E.O. 13112 Invasive Species; E.O. 11988 Floodplain Management; E.O. 12898 Federal actions to address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: August 31, 2016.
Cesar Perez,
Acting North Team Leader, Project Delivery, Federal Highway Administration, Sacramento, California.

[FR Doc. 2016-21601 Filed 9-7-16; 8:45 am]

BILLING CODE 4910-RY-P